POSTAL SERVICE

39 CFR Part 111

OEL and Carrier Route Information Lines

AGENCY: Postal Service™.

ACTION: Proposed rule.

SUMMARY: The Postal Service is proposing to amend Mailing Standards of the United States Postal Service, Domestic Mail Manual (DMM®) to revise the requirements for using optional endorsement lines (OEL) or carrier route information lines on USPS Marketing Mail carrier route letters.

DATES: Submit comments on or before July 29, 2024.

ADDRESSES: Mail or deliver written comments to the Director, Product Classification, U.S. Postal Service, 475 L'Enfant Plaza SW, Room 4446, Washington, DC 20260-5015. If sending comments by email, include the name and address of the commenter and send to PCFederalRegister@usps.gov, with a subject line of “OEL and Carrier Route Information Lines”. Faxed comments are not accepted.

You may inspect and photocopy all written comments, by appointment only, at USPS® Headquarters Library, 475 L'Enfant Plaza SW, 11th Floor North, Washington, DC, 20260. These records are available for review on Monday through Friday, 9 a.m.-4 p.m., by calling 202-268-2906.

FOR FURTHER INFORMATION CONTACT: Dale Kennedy at (202) 268-6592 or Doriane Harley at (202) 268-2537.

SUPPLEMENTARY INFORMATION: All submitted comments and attachments are part of the public record and subject to disclosure. Do not enclose any material in your comments that you consider to be confidential or inappropriate for public disclosure.

Currently, the standards in DMM section 203.4.8.1 do not require the use of optional endorsement lines or carrier route information lines on USPS Marketing Mail letters in full carrier route trays.

The Postal Service is proposing to amend the standards in DMM section 203.8.1 to require optional endorsement lines or carrier route information lines on all USPS Marketing Mail carrier route letters.

The Postal Service is proposing to implement this change effective August 25, 2024.

We believe that the proposed revision will provide consistency and clarity for carrier route mail preparation.

Although exempt from the notice and comment requirements of the Administrative Procedure Act (5 U.S.C. 553(b), (c)) regarding proposed rulemaking by 39 U.S.C. 410(a), the Postal Service invites public comment on the following proposed revisions to Mailing Standards of the United States Postal Service, Domestic Mail Manual (DMM), incorporated by reference in the Code of Federal Regulations.

We will publish an appropriate amendment to 39 CFR part 111 to reflect these changes.

List of Subjects in 39 CFR Part 111

Administrative practice and procedure, Postal Service.

Accordingly, the Postal Service proposes the following changes to Mailing Standards of the United States Postal Service, Domestic Mail Manual (DMM), incorporated by reference in the Code of Federal Regulations (see 39 CFR 111.1):

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

200 Commercial Letters, Cards, Flats, and Parcels

* * * * *

203 Basic Postage Statement, Documentation, and Preparation Standards

* * * * *

8.0 Carrier Route Information Lines

8.1 Basic Information

[Revise the last sentence of 8.1 to read as follows:]

* * * Mailers must use optional endorsement lines or carrier route information lines on all pieces in mailings of USPS Marketing Mail letters prepared under 245.6.7.

* * * * *

Ruth Stevenson,
Attorney, Ethics and Legal Compliance.

[FR Doc. 2024-13942 Filed 6-27-24; 8:45 am]

BILLING CODE 7710-12-P